NUCLEAR REGULATORY COMMISSION

[Docket No. 50-461; NRC-2016-0245]

Exelon Generation Company LLC; Clinton Power Station, Unit 1

AGENCY: Nuclear Regulatory Commission.

ACTION: License amendment application; withdrawal by applicant.

SUMMARY: The U.S. Nuclear Regulatory Commission (NRC) has granted the request of Exelon Generation Company, LLC (Exelon, the licensee), to withdraw its application dated August 11, 2016, for a proposed amendment to Facility Operating License No. NPF-62. The proposed amendment request would have eliminated the on-shift positions not needed for storage of the spent fuel in the spent fuel pool during the initial decommissioning period and the emergency response organization positions not needed to respond to credible events. Additionally the licensee proposed to revise the emergency action levels (EALs) to reflect those conditions applicable when the unit is in a permanently defueled condition.

ADDRESSES: Please refer to Docket ID NRC-2016-0245 when contacting the NRC about the availability of information regarding this document. You may obtain publicly-available information related to this document using any of the following methods:

• Federal Rulemaking Web site: Go to http://www.regulations.gov and search for Docket ID NRC-2016-0245. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Eva A. Brown, Office of Nuclear Reactor Regulation, U.S. Nuclear Regulatory Commission, Washington, DC 20555-0001; telephone: 301-415-2315, email: Eva.Brown@nrc.gov

SUPPLEMENTARY INFORMATION: The NRC has granted the request of Exelon to withdraw its application dated August 11, 2016 (ADAMS Accession No. ML16224A895), for a proposed amendment to Facility Operating License No. NPF-62 for the Clinton Power Station, Unit 1, located in DeWitt County, Illinois. The proposed amendment request would eliminated the on-shift positions not needed for storage of the spent fuel in the spent fuel pool during the initial decommissioning period and the emergency response organization positions not needed to respond to credible events. Additionally the licensee is proposing to revise the EALs to reflect those conditions applicable when the unit is in a permanently defueled condition. The Commission has previously issued a proposed finding that the amendment involves no significant hazards consideration published in the Federal Register on December 6, 2016 (81 FR 87970). However, by letter dated December 14, 2016 (ADAMS Accession No. ML16349A314), the licensee requested to withdraw the proposed amendment.

Dated at Rockville, Maryland, this 27th day of December 2016.
For the Nuclear Regulatory Commission.
John G. Lamb,
Senior Project Manager, Special Projects and Process Branch, Division of Operating Reactor Licensing, Office of Nuclear Reactor Regulation.

[FR Doc. 2017-00046 Filed 1-5-17; 8:45 am]

BILLING CODE 7590-01-P